ENVIRONMENTAL PROTECTION AGENCY

40 CFR Part 98

[EPA-HQ-OAR-2010-0929 FRL-9242-6]

Change to the Reporting Date for Certain Data Elements Required Under the Mandatory Reporting of Greenhouse Gases Rule

AGENCY: Environmental Protection Agency (EPA).

ACTION: Proposed rule.

SUMMARY: EPA is proposing to defer the reporting date of certain data elements that are inputs to emission equations under the Mandatory Greenhouse Gas Reporting Rule for three years. In response to EPA's July 7, 2010 proposed confidentiality determinations for data required under the reporting rule, EPA received several comments raising concerns that warrant further consideration before EPA issues final confidentiality determinations for data elements that are inputs to emission equations for direct emitters. To allow time for EPA to consider these comments and other information concerning these data elements before they are reported to EPA, when they may become publicly available, EPA is proposing to defer direct emitter reporting of inputs to emission equations for calendar years through 2012 until March 31, 2014. This proposal would not change any other requirements of the reporting rule.

DATES: Comments. Comments must be received on or before January 26, 2011 unless a public hearing is requested by January 6, 2011. If a hearing is requested on this proposed rule, written comments must be received by February 10, 2011.

Public Hearing. To request a hearing, please contact the person listed in the following FOR FURTHER INFORMATION CONTACT section by January 6, 2011. Upon such request, the hearing will be conducted on January 11, 2011, in the Washington, DC area. If a hearing is requested, EPA will provide further information about the hearing on its Web page: http://www.epa.gov/climatechange/emissions/ghgrulemaking.html.

ADDRESSES: You may submit your comments, identified by Docket ID No. EPA-HQ-OAR-2010-0929, by any of the following methods:

• Federal eRulemaking Portal: http://www.regulations.gov. Follow the online instructions for submitting comments.

• E-mail: GHGReportingCBI@epa.gov. Include Docket ID No. EPA-HQ-OAR-2010-0929 (and/or RIN number) in the subject line of the message.

• Fax: (202) 566-1741.

• Mail: Environmental Protection Agency, EPA Docket Center (EPA/DC), Mailcode 2822T, Attention Docket ID No. OAR-2010-0929, 1200 Pennsylvania Avenue, NW., Washington, DC 20004.

• Hand/Courier Delivery: EPA Docket Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2010-0929. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means that EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West Building, Room 3334, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingCBI@epa.gov.

Worldwide Web (WWW). In addition to being available in the docket, an electronic pre-publication copy of this proposal will also be available through the WWW. Following the Administrator's signature, a copy of this action will be posted on EPA's greenhouse gas reporting rule Web site at http://www.epa.gov/climatechange/emissions/ghgrulemaking.html.

SUPPLEMENTARY INFORMATION: Acronyms and Abbreviations. The following acronyms and abbreviations are used in this document.

CAA Clean Air Act

CBI confidential business information

CEMS continuous emission monitoring system(s)

CFR Code of Federal Regulations

EPA U.S. Environmental Protection Agency

FR Federal Register

GHG greenhouse gas

NTTAA National Technology Transfer and Advancement Act of 1995

RFA Regulatory Flexibility Act

UMRA Unfunded Mandates Reform Act

U.S. United States

WWW Worldwide Web

Organization of this Document. The following outline is provided to aid in locating information in this preamble.

I. Background

II. Summary of the Proposed Amendment and Request for Comments

A. Facilities Affected

B. Proposed Amendment

C. Request for Comments

III. Rationale for the Proposed Amendment

IV. Statutory and Executive Order Reviews

A. Executive Order 12866: Regulatory Planning and Review

B. Paperwork Reduction Act

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations

Does this action apply to me? The Administrator determined that this action is subject to the provisions of Clean Air Act (CAA) section 307(d). See CAA section 307(d)(1)(V) (the provisions of CAA section 307(d) apply to “such other actions as the Administrator may determine”). This action would amend existing regulations. Entities affected by this proposed action are owners or operators of facilities that are direct emitters of greenhouse gases (GHGs) and are required to report under the Mandatory GHG Reporting Rule (40 CFR part 98), which include those listed in Table 1 of this preamble:

Table 1—Examples of Affected Entities by Category
Category | NAICS | Examples of affected facilities
General Stationary Fuel Combustion Sources |  | Facilities operating boilers, process heaters, incinerators, turbines, and internal combustion engines:
| 321 | Manufacturers of lumber and wood products.
| 322 | Pulp and paper mills.
| 325 | Chemical manufacturers.
| 324 | Petroleum refineries, and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
| 325193 | Ethyl alcohol manufacturing facilities.
| 311611 | Meat processing facilities.
| 311411 | Frozen fruit, juice, and vegetable manufacturing facilities.
| 311421 | Fruit and vegetable canning facilities.
Electricity Generation | 221112 | Fossil-fuel fired electric generating units, including units owned by Federal and municipal governments and units located in Indian Country.
Adipic Acid Production | 325199 | Adipic acid manufacturing facilities.
Aluminum Production | 331312 | Primary Aluminum production facilities.
Ammonia Manufacturing | 325311 | Anhydrous and aqueous ammonia manufacturing facilities.
Cement Production | 327310 | Portland Cement manufacturing plants.
Electronics Manufacturing | 334111 | Microcomputers manufacturing facilities.
| 334413 | Semiconductor, photovoltaic (solid-state) device manufacturing facilities.
| 334419 | LCD unit screens manufacturing facilities.
|  | MEMS manufacturing facilities.
Ferroalloy Production | 331112 | Ferroalloys manufacturing facilities.
Fluorinated GHG Production | 325120 | Industrial gases manufacturing facilities.
Glass Production | 327211 | Flat glass manufacturing facilities.
| 327213 | Glass container manufacturing facilities.
| 327212 | Other pressed and blown glass and glassware manufacturing facilities.
HCFC-22 Production and HFC-23 Destruction | 325120 | Chlorodifluoromethane manufacturing facilities.
Hydrogen Production | 325120 | Hydrogen manufacturing facilities.
Iron and Steel Production | 331111 | Integrated iron and steel mills, steel companies, sinter plants, blast furnaces, basic oxygen process furnace shops.
Lead Production | 331419 | Primary lead smelting and refining facilities.
| 331492 | Secondary lead smelting and refining facilities.
Lime Production | 327410 | Calcium oxide, calcium hydroxide, dolomitic hydrates manufacturing facilities.
Magnesium Production | 331419 | Primary refiners of nonferrous metals by electrolytic methods.
| 331492 | Secondary magnesium processing plants.
Municipal Solid Waste Landfills | 562212 | Solid waste landfills.
| 221320 | Sewage treatment facilities.
Nitric Acid Production | 325311 | Nitric acid manufacturing facilities.
Petroleum and Natural Gas Systems | 486210 | Pipeline transportation of natural gas.
| 221210 | Natural gas distribution facilities.
| 211 | Extractors of crude petroleum and natural gas.
| 211112 | Natural gas liquid extraction facilities.
Petrochemical Production | 32511 | Ethylene dichloride manufacturing facilities.
| 325199 | Acrylonitrile, ethylene oxide, methanol manufacturing facilities.
| 325110 | Ethylene manufacturing facilities.
| 325182 | Carbon black manufacturing facilities.
Petroleum Refineries | 324110 | Petroleum refineries.
Phosphoric Acid Production | 325312 | Phosphoric acid manufacturing facilities.
Pulp and Paper Manufacturing | 322110 | Pulp mills.
| 322121 | Paper mills.
| 322130 | Paperboard mills.
Silicon Carbide Production | 327910 | Silicon carbide abrasives manufacturing facilities.
Soda Ash Manufacturing | 325181 | Alkalies and chlorine manufacturing facilities.
| 212391 | Soda ash, natural, mining and/or beneficiation.
Sulfur Hexafluoride (SF6) from Electrical Equipment | 221121 | Electric bulk power transmission and control facilities.
Titanium Dioxide Production | 325188 | Titanium dioxide manufacturing facilities.
Underground Coal Mines | 212113 | Underground anthracite coal mining operations.
| 212112 | Underground bituminous coal mining operations.
Zinc Production | 331419 | Primary zinc refining facilities.
| 331492 | Zinc dust reclaiming facilities, recovering from scrap and/or alloying purchased metals.
Industrial Landfills | 562212 | Solid waste landfills.
| 221320 | Sewage treatment facilities.
| 322110 | Pulp mills.
| 322121 | Paper mills.
| 322122 | Newsprint mills.
| 322130 | Paperboard mills.
| 311611 | Meat processing facilities.
| 311411 | Frozen fruit, juice, and vegetable manufacturing facilities.
| 311421 | Fruit and vegetable canning facilities.
Wastewater Treatment | 322110 | Pulp mills.
| 322121 | Paper mills.
| 322122 | Newsprint mills.
| 322130 | Paperboard mills.
| 311611 | Meat processing facilities.
| 311411 | Frozen fruit, juice, and vegetable manufacturing facilities.
| 311421 | Fruit and vegetable canning facilities.
| 325193 | Ethanol manufacturing facilities.
CO2 Enhanced Recovery Projects | 211 | Oil and Gas Extraction Projects using CO2 Enhanced Recovery.
Geologic Sequestration Sites | N/A | CO2 geologic sequestration projects.

Table 1 of this preamble is not intended to be exhaustive but to provide a guide for readers regarding facilities likely to be affected by this action. Types of facilities other than those listed in the table could also be subject to reporting requirements. To determine whether you are affected by this action, you should carefully examine the applicability criteria found in 40 CFR part 98, subpart A or the relevant criteria in subparts C though JJ ¹ and RR, SS, and TT. If you have questions regarding the applicability of this action to a particular facility, consult the person listed in the preceding FOR FURTHER INFORMATION CONTACT Section.

¹ EPA will not be implementing 40 CFR part 98, subpart JJ due to a Congressional restriction prohibiting the expenditure of funds for this purpose. As a result, 40 CFR part 98, subpart JJ is not included in the scope of this notice.

I. Background

On October 30, 2009, EPA published the Mandatory GHG Reporting Rule for collecting information regarding GHGs from a broad range of industry sectors (74 FR 56260). Under 40 CFR part 98 of the GHG Reporting Rule (hereinafter referred to as “Part 98”) and its subsequent amendments, EPA will collect data from certain facilities and suppliers above specified thresholds. The data to be reported consists of GHG emissions information as well as other data, including information necessary to characterize, quantify, and verify the reported emissions. In the preamble to Part 98, we stated, “Through a notice and comment process, we will establish those data elements that are ‘emissions data’ and therefore [under CAA section 114(c)] will not be afforded the protections of CBI. As part of that exercise, in response to requests provided in comments, we may identify classes of information that are not emissions data, and are CBI.” (74 FR 56287, October 30, 2009).

On July 7, 2010, EPA proposed confidentiality determinations for Part 98 data elements and proposed amending EPA's regulation for handling confidential business information to add specific procedures for the treatment of Part 98 data (75 FR 39094; hereinafter referred to as the “July 7, 2010 CBI proposal”). The July 7, 2010 CBI proposal proposed confidentiality statuses for the data elements for subparts included in the 2009 final Part 98 rule (see 74 FR 56260, October 30, 2009), four subparts finalized in July 2010 (see 75 FR 39736, July 12, 2010), and seven new subparts that had been proposed but not yet finalized as of July 2010 (see 75 FR 18576, 75 FR 18608, and 75 FR 18652, April 12, 2010). The July 7, 2010 CBI proposal also covered proposed changes to the reporting requirements for some of the 2009 final Part 98 subparts. These changes were proposed in two separate rulemakings (see 75 FR 18455, April, 12, 2010; and 75 FR 33950, June 15, 2010).

On August 11, 2010, EPA published a proposed amendment to Part 98 to change the description of some reported data elements and require reporting of some new data elements (75 FR 48744; hereinafter referred to as the “August 11, 2010 revisions proposal”). EPA concurrently issued a supplemental CBI proposal that proposed confidentiality determinations for the new and revised data elements included in the August 11, 2010 revisions notice (75 FR 43889, July 27, 2010; hereinafter referred to as the “July 27, 2010 supplemental CBI proposal”).

As described in detail in the CBI proposals identified above, EPA grouped Part 98 data into 22 data categories (11 direct emitter data categories and 11 supplier data categories), with each of the categories containing data elements that are similar in type or characteristics. EPA then proposed confidentiality determinations for each category, with a few exceptions that are not relevant to today's proposed action. Consistent with EPA's long-standing interpretation, EPA proposed that data elements in the inputs to emission equations data category meet the definition of emission data under 40 CFR 2.301(a)(2)(i) and therefore, under CAA section 114(c), could not be held as confidential once they were reported to EPA.

EPA received numerous public comments on the July 7, 2010 CBI proposal and the July 27, 2010 supplemental CBI proposal. Though we are still in the process of considering these comments, we plan to complete our consideration of these comments and issue final confidentiality determinations for the Part 98 data elements that are not inputs to emission equations, which constitute approximately 75 percent of the data elements, in a separate final action. However, as explained in more detail in Section III of this preamble, EPA received comments that raise concerns regarding the public availability of data in the inputs to emission equations category. EPA has determined that these concerns warrant in-depth evaluation of the potential impact from the release of inputs to emission equations, as well as collection and review of additional information, that cannot be completed before the March 31, 2011 reporting deadline. EPA is therefore proposing to defer the reporting of inputs to equations to afford EPA additional time to complete this evaluation and take appropriate final actions regarding inputs to equations before these data elements are reported to EPA and potentially become subject to release.

Concurrent with this proposal, EPA has promulgated an interim final rule that defers the initial March 31, 2011 reporting date for inputs to emission equations to August 31, 2011 to give EPA time to promulgate this deferral through notice and comment. (See Section III of the preamble to the interim final rule for further justification.) EPA is also concurrently publishing a call for information, entitled “Information on Inputs to Emission Equations under the Mandatory Reporting of Greenhouse Gases Rule,” to collect additional information that will assist EPA with the evaluation described above. Further information regarding that notice is found in Section II of this preamble.

II. Summary of the Proposed Amendment and Request for Comments

A. Facilities Affected

This proposed action would affect only facilities that directly emit GHGs and are subject to Part 98. It would not affect suppliers of fuels or industrial gases. Specifically, the amendment would apply to facilities that are subject to the source category-specific reporting requirements in 40 CFR part 98, subparts C through JJ ² and subparts RR,³ SS, and TT, including any subparts that EPA finalizes in future actions. The list of affected source categories is provided in Table 2 of this preamble.⁴

² EPA will not be implementing 40 CFR part 98, subpart JJ due to a Congressional restriction prohibiting the expenditure of funds for this purpose. As a result, 40 CFR part 98, subpart JJ is not included in the scope of this notice.

³ For subpart RR, the data elements covered by this action include only certain data elements related to GHG emissions.

⁴ Certain source categories were revised in an action signed on November 24, 2010, which is available on our Web site, http://www.epa.gov/climatechange/emissions/technical-corrections.html#revisions.

Table 2—Source Categories Covered by This Proposal
Source category | 40 CFR Part 98 Subpart | Federal Register notice
General Stationary Fuel Combustion Sources | C | 74 FR 56260, Revised 11-24-2010.
Electricity Generation | D | 74 FR 56260, Revised 11-24-2010.
Adipic Acid Production | E | 74 FR 56260, 75 FR 66434.
Aluminum Production | F | 74 FR 56260, Revised 11-24-2010.
Ammonia Manufacturing | G | 74 FR 56260, Revised 11-24-2010.
Cement Production | H | 74 FR 56260, 75 FR 66434.
Electronics Manufacturing | I | 75 FR 74774.
Ferroalloy Production | K | 74 FR 56260, 75 FR 66434.
Fluorinated Gas Production | L | 75 FR 74774.
Glass Production | N | 74 FR 56260, 75 FR 66434.
HCFC-22 Production and HFC-23 Destruction | O | 74 FR 56260, 75 FR 66434.
Hydrogen Production | P | 74 FR 56260, 75 FR 66434, Revised 11-24-2010.
Iron and Steel Production | Q | 74 FR 56260, 75 FR 66434.
Lead Production | R | 74 FR 56260.
Lime Manufacturing | S | 74 FR 56260, 75 FR 66434.
Magnesium Production | T | 75 FR 39736.
Miscellaneous Uses of Carbonate | U | 74 FR 56260.
Nitric Acid Production | V | 74 FR 56260, 75 FR 66434, Revised 11-24-2010.
Petroleum and Natural Gas Systems | W | 75 FR 74458.
Petrochemical Production | X | 74 FR 56260, Revised 11-24-2010.
Petroleum Refineries | Y | 74 FR 56260, Revised 11-24-2010.
Phosphoric Acid Production | Z | 74 FR 56260, 75 FR 66434.
Pulp and Paper Manufacturing | AA | 74 FR 56260, Revised 11-24-2010.
Silicon Carbide Production | BB | 74 FR 56260.
Soda Ash Manufacturing | CC | 74 FR 56260, 75 FR 66434.
Electrical Transmission and Distribution Equipment Use | DD | 75 FR 74774.
Titanium Dioxide Production | EE | 74 FR 56260, 75 FR 66434.
Underground Coal Mines | FF | 75 FR 39736.
Zinc Production | GG | 74 FR 56260, 75 FR 66434.
Municipal Solid Waste Landfills | HH | 74 FR 56260, 75 FR 66434.
Industrial Wastewater Treatment | II | 75 FR 39736.
Subpart RR—Geologic Sequestration of Carbon Dioxide | RR | 74 FR 56260.
Subpart SS—Electrical Equipment Manufacture or Refurbishment | SS | 75 FR 74774.
Subpart TT—Industrial Waste Landfills | TT | 75 FR 39736.

B. Proposed Amendment

EPA proposes to add additional data elements to Table A-6 at 40 CFR part 98. Table A-6 was added by the concurrent interim final rule and specifies the data elements that have a deferred reporting date. The Table A-6 added by the interim final rule only includes data elements with an initial reporting year of 2010 and original initial reporting date of March 31, 2011. This action proposes to add the remaining data elements that are inputs to emission equations.⁵ In addition, under the annual reporting requirement at 40 CFR 98.3(c), EPA proposes to amend 40 CFR 98.3(c)(4)(vii) (also added by the concurrent interim final rule) to defer the reporting date for data elements listed in Table A-6 until March 31, 2014.⁶ This proposed action would not change any other requirements of Part 98, including the requirement that these data elements be retained as records in a form that is suitable for expeditious inspection and review (required for all part 98 records by 40 CFR 98.3(g)).

⁵ The list of inputs to equations is slightly different than what was proposed in the July 7, 2010 CBI proposal. Reporting elements included in this category are values used by reporters to calculate equation outputs.

⁶ This proposal also provides the public an opportunity to comment on the Table A-6 and paragraph 40 CFR 98.3(c)(4)(vii) added in the interim final rule.

C. Request for Comments

This notice proposes to defer until March 31, 2014, the requirement to report inputs to emission equations for calendar years through 2012. Accordingly, comments on this action should be limited to the proposed deferral of the reporting requirements for these data elements. There will be separate notice and comment opportunities to address other issues, as described below.

III. Rationale for the Proposed Amendment

In the July 7, 2010, CBI proposal, EPA proposed that data elements in the inputs to emission equations data category meet the definition of emission data under 40 CFR 2.301(a)(2)(i), consistent with our long-standing interpretation, and therefore, under CAA section 114(c), could not be held as confidential once they were reported to EPA. EPA received many comments in response and considers some of these comments to warrant further consideration before EPA issues final confidentiality determinations for data elements that are inputs to emission equations for direct emitters. This process requires additional time, necessitating this proposed deferral. Although we are not responding to public comments on the July 7, 2010 CBI proposal in this action, we are presenting some comments that illustrate the need to defer reporting of inputs to equations in order to allow EPA time to further consider the issues raised by these comments.

EPA received comments that raise serious concerns regarding the public availability of data in the inputs to emission equations category. Almost all commenters from industry wrote that some or all inputs to emission equations (which include product compositions, raw materials used, fuel types and quantities, production volumes, and other process-specific information) are considered trade secrets or otherwise sensitive business information, and that making those inputs publicly available would cause them serious competitive harm. Some commenters expressed concern that public disclosure of production volumes and process-specific information could give competitors insight into sensitive operational limits and process capabilities. The commenters explained that, combined with other publicly available information, this information could give competitors details concerning business positions or vulnerabilities that could be used to a reporter's disadvantage. Some commenters stated that disclosure of the type, composition, and relative proportions of raw materials used would reveal the specific formula used to manufacture their products. Others expressed concern that product composition data reveal information about their products' performance characteristics. Some stated that public availability of information about the types and quantities of fuels consumed would reveal sensitive details about individual production processes' energy usage and could be used to estimate relative production costs.

Several Part 98 reporters commented that, had they known that EPA would later propose that inputs to emission equations qualify as emission data that must be made available to the public under CAA section 114(c), they would have commented more critically and more extensively on Part 98 equations when they were proposed in 2009 and might have suggested or agreed to alternatives such as third-party audits or installation of continuous emission monitoring systems (CEMS). Several reporters wrote that they would have installed CEMS or otherwise changed their compliance approaches. Commenters further noted that, for some subparts, Part 98 allows monitoring emissions with CEMS as an alternative to calculation with emission equations but that, by the time EPA proposed CBI determinations in July 2010, reporters no longer could install CEMS for 2010. As a result, commenters stated, these reporters were locked into using the emission equations for 2010 reporting if that was the methodology they had chosen. They argued that possible public availability of potentially sensitive inputs for calculation of 2010 emissions should not be based on a reporter's decision not to install CEMS for 2010 when this decision was made prior to and without knowledge of the July 7, 2010 CBI proposal.

EPA has reviewed these comments and has concluded that some of the concerns warrant more extensive evaluation of potential impacts from the public availability of inputs to equations. EPA notes, however, that many of the potential problems commenters described are general in nature and likely to apply to some but not all inputs to emission equations or industrial sectors. For example, multiple industries consider raw material quantities and compositions to be trade secrets, but municipal landfill data are generally available in public records. Because many comments raised serious concerns without sufficient specificity for EPA to fully evaluate and address them, we are concurrently issuing a call for information that solicits additional information including:

• Identification of which specific data elements used as inputs to emission equations the commenter considers sensitive business information and specifically how disclosure would cause competitive harm.

• Identification of which data elements that are inputs to emission equations are already publicly available or discernable from other publicly available data.

We also are soliciting suggestions regarding possible changes to Part 98, including:

• Identification of additional calculation methods that would adequately calculate GHG emissions without using the specific inputs that the commenter considers to be sensitive.

• Identification of additional data verification methods that could be used if EPA does not collect the specific data elements that commenters consider to be sensitive.

The call for information includes further details on the specific types of information requested and instructions for submitting information and comments.

Once EPA receives the additional requested information, we will be able to fully evaluate which, if any, inputs to equations could result in the harmful consequences described by the July 7, 2010 CBI proposal commenters if made available to the public. For any inputs, the release of which EPA determines could result in the business harms alleged by commenters, EPA would evaluate whether emissions can be calculated or verified using additional methodologies, consistent with the transparency and accuracy goals of Part 98, without EPA collecting these inputs. Should EPA identify any such additional methodologies, EPA may propose to amend Part 98 to allow these additional emission measurement or calculation approaches. If additional approaches to calculate or verify emissions are viable, EPA may determine that it is not necessary to collect certain highly sensitive inputs and propose to amend Part 98 accordingly. As previously stated in the July 7, 2010 CBI proposal preamble, however, EPA is committed to transparency as well as accuracy in the GHG Reporting Program. We consider transparency important because it promotes public confidence in the data and enables the public, industry, advocacy groups, and other stakeholders to better understand the sources of GHG emissions and the factors that affect the quantities of GHGs emitted. Therefore, any additional approach we adopt would be based on a well-balanced consideration of both the importance of protecting certain highly sensitive data and our commitment to the GHG Reporting Program's transparency and accuracy. Should EPA decide that it is necessary to amend Part 98 as a result of this evaluation, we would promulgate any such amendment through a notice and comment process.

As noted above, EPA needs time to collect information, conduct extensive evaluations, and take final actions regarding inputs to equations, which EPA cannot complete before the current reporting deadlines. To give EPA time to complete these important tasks before these data elements are reported and potentially subject to release, EPA is issuing this proposed rule to defer until March 31, 2014, the deadline for reporting of data elements that are inputs to emission equations. As noted above, EPA is concurrently issuing an interim final rule that defers the reporting deadline for these data elements until August 31, 2011 to allow us to undertake this notice and comment process before inputs to emission equations must be reported to EPA.

EPA is not revisiting our decision to require self-certification with EPA emissions verification. We plan to verify the data and to ensure that accurate data is available to the public, including for the years in which inputs are temporarily not collected. EPA outlined in the preamble to Part 98 (74 FR 56260) the reasons for selecting our verification approach, and these reasons remain relevant and compelling. In the final Part 98, we determined that EPA verification allows EPA to implement an efficient two-step process of (1) a centralized, automated electronic review and (2) direct follow-up with facilities, including conducting on-site audits when potential errors, discrepancies, or questions arise from the electronic review results.

During the deferral, EPA plans to follow this two-step process with some modifications. Neither the short-term deferral put in place by the concurrent interim final rule nor the longer-term deferral proposed in this action affects supplier source categories, so neither action will affect the verification process for supplier data. For the direct emitter source categories, EPA recognizes that, during the deferral period, we will receive fewer data upon which to conduct electronic verification. As a result, EPA temporarily will place additional emphasis on the second step of the process, direct follow-up with facilities. Increased emphasis on direct follow-up with facilities will allow EPA to compensate for the reduced amount of electronic verification that can be conducted during this temporary period.

Although we will not be collecting the equation inputs during the deferral period, we will nonetheless still be collecting several different types of data that will be used for verification. These data include the calculation methodologies used, specific test methods that were used to determine equation inputs, an indication of whether missing data procedures were used, and various operating characteristics such as plant and equipment capacities and production rates. These data will be used in the electronic verification process. EPA is confident that electronic verification coupled with more robust direct follow-up will achieve verification for this three year period.

IV. Statutory and Executive Order Reviews

A. Executive Order 12866: Regulatory Planning and Review

This action is not a “significant regulatory action” under the terms of Executive Order 12866 (58 FR 51735, October 4, 1993) and is therefore not subject to review under the Executive Order.

B. Paperwork Reduction Act

This action does not impose any new information collection burden. This proposed amendment would allow facilities to keep certain data elements as records rather than report them in their annual GHG reports during the deferral period, so it would not increase the reporting burden. However, OMB has previously approved the information collection requirements contained in the regulations promulgated on October 30, 2009, under 40 CFR part 98, under the provisions of the Paperwork Reduction Act, 44 U.S.C. 3501 et seq. and has assigned OMB control number 2060-0629. EPA has also submitted the Information Collection Request requirements for four additional Part 98 subparts promulgated on July 12, 2010 to OMB for approval (see 75 FR 39756). The OMB control numbers for EPA's regulations in 40 CFR are listed at 40 CFR part 9.

C. Regulatory Flexibility Act (RFA)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this proposed rule on small entities, “small entity” is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field.

After considering the economic impacts of this proposed rule amendment on small entities, I certify that this action will not have a significant economic impact on a substantial number of small entities. The proposed rule amendment will not impose any new requirement on small entities that are not currently required by Part 98.

EPA took several steps to reduce the impact of Part 98 on small entities. For example, EPA determined appropriate thresholds that reduced the number of small businesses reporting. In addition, EPA did not require facilities to install CEMS if they did not already have them. Facilities without CEMS can calculate emissions using readily available data or data that are less expensive to collect such as process data or material consumption data. For some source categories, EPA developed tiered methods that are simpler and less burdensome. Also, EPA required annual instead of more frequent reporting. Finally, EPA continues to conduct significant outreach on the mandatory GHG reporting rule and maintains an “open door” policy for stakeholders to help inform EPA's understanding of key issues for the regulated industries.

We continue to be interested in the potential impacts of the proposed rule amendment on small entities and welcome comments on issues related to such effects.

D. Unfunded Mandates Reform Act (UMRA)

Title II of the Unfunded Mandates Reform Act of 1995 (UMRA), 2 U.S.C. 1531-1538, requires Federal agencies, unless otherwise prohibited by law, to assess the effects of their regulatory actions on State, local, and Tribal governments and the private sector. Federal agencies must also develop a plan to provide notice to small governments that might be significantly or uniquely affected by any regulatory requirements. The plan must enable officials of affected small governments to have meaningful and timely input in the development of EPA regulatory proposals with significant Federal intergovernmental mandates and must inform, educate, and advise small governments on compliance with the regulatory requirements.

The proposed amendment to 40 CFR part 98 does not contain a Federal mandate that may result in expenditures of $100 million or more for State, local, and Tribal governments, in the aggregate, or the private sector in any one year. The proposed amendment would allow certain data elements to be retained as records rather than reported, so it does not increase the costs for facilities to comply with Part 98. Thus, the proposed amendment is not subject to the requirements of sections 202 or 205 of UMRA.

In developing Part 98, EPA consulted with small governments pursuant to a plan established under section 203 of UMRA to address impacts of regulatory requirements in the rule that might significantly or uniquely affect small governments. For a summary of EPA's consultations with State and/or local officials or other representatives of State and/or local governments in developing Part 98, see Section VIII.D of the preamble to the final rule (74 FR 56370, October 30, 2009).

E. Executive Order 13132: Federalism

This action does not have federalism implications. It will not have substantial direct effects on the States, on the relationship between the national government and the States, or on the distribution of power and responsibilities among the various levels of government, as specified in Executive Order 13132. However, for a more detailed discussion about how Part 98 relates to existing State programs, please see Section II of the preamble to the final rule (74 FR 56266, October 30, 2009).

This proposed amendment applies to facilities that directly emit greenhouses gases. It does not apply to government entities unless a government entity owns a facility that directly emits greenhouse gases above threshold levels (such as a landfill), so relatively few government facilities would be affected. This regulation also does not limit the power of States or localities to collect GHG data and/or regulate GHG emissions. Thus, Executive Order 13132 does not apply to this action.

In the spirit of Executive Order 13132, and consistent with EPA policy to promote communications between EPA and State and local governments, EPA specifically solicits comment on this proposed action from State and local officials. For a summary of EPA's consultation with State and local organizations and representatives in developing Part 98, see Section VIII.E of the preamble to the final rule (74 FR 56371, October 30, 2009).

F. Executive Order 13175: Consultation and Coordination With Indian Tribal Governments

This action does not have Tribal implications, as specified in Executive Order 13175 (65 FR 67249, November 9, 2000). The proposed rule amendment would not result in any changes to the requirements of Part 98 other than allowing facilities to keep certain data elements as records rather than report them in their annual GHG reports through 2012. Thus, Executive Order 13175 does not apply to this action. For a summary of EPA's consultations with Tribal governments and representatives, see section VIII.F of the preamble to the final rule (74 FR 56371, October 30, 2009). EPA specifically solicits additional comment on this proposed action from Tribal officials.

G. Executive Order 13045: Protection of Children From Environmental Health Risks and Safety Risks

EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution, or Use

This action is not subject to Executive Order 13211 (66 FR 28355, May 22, 2001), because it is not a significant regulatory action under Executive Order 12866.

I. National Technology Transfer and Advancement Act

Section 12(d) of the National Technology Transfer and Advancement Act of 1995 (NTTAA), Public Law 104-113 (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

The proposed rule amendment does not involve technical standards. Therefore, EPA is not considering the use of any voluntary consensus standards.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this proposed rule will not have disproportionately high and adverse human health or environmental effects on minority or low-income populations because it does not affect the level of protection provided to human health or the environment. The proposed amendment addresses only reporting and recordkeeping procedures.

List of Subjects in 40 CFR Part 98

Environmental protection, Administrative practice and procedure, Greenhouse gases, Reporting and recordkeeping requirements.

Dated: December 17, 2010.
Lisa P. Jackson,
Administrator.

For the reasons set out in the preamble, title 40, Chapter I, of the Code of Federal Regulations is proposed to be amended as follows:

PART 98—[AMENDED]

1. The authority citation for Part 98 continues to read as follows:

Authority: 42 U.S.C. 7401, et seq.

Subpart A—[Amended]

2. Section 98.3 is amended by revising paragraph (c)(4)(vii) to read as follows:

§ 98.3 What are the general monitoring, reporting, recordkeeping, and verification requirements of this part?

* * * * *

(c) * * *

(4) * * *

(vii) The owner or operator of a facility is not required to report the data elements specified in Table A-6 of this subpart for calendar years 2010 through 2012 until March 31, 2014.

* * * * *

3. Revise Table A-6 to subpart A to read as follows:

Subpart | Rule citation (40 CFR part 98) | Specific data elements for which reporting date is changed (“All” means that the date is changed for all data elements in the cited paragraph)
A | 98.3(d)(3)(v) | All.
C | 98.36(b)(9)(iii) | Only estimate of the heat input.
C | 98.36(c)(2)(ix) | Only estimate of the heat input from each type of fuel listed in Table C-2.
C | 98.36(d)(1)(iv) | All.
C | 98.36(d)(2)(ii)(G) | All.
C | 98.36(d)(2)(iii)(G) | All.
C | 98.36(e)(2)(i) | All.
C | 98.36(e)(2)(ii)(A) | All.
C | 98.36(e)(2)(ii)(C) | Only HHV value for each calendar month in which HHV determination is required.
C | 98.36(e)(2)(ii)(D) | All.
C | 98.36(e)(2)(iv)(A) | All.
C | 98.36(e)(2)(iv)(C) | All.
C | 98.36(e)(2)(iv)(F) | All.
C | 98.36(e)(2)(iv)(G) | All.
C | 98.36(e)(2)(vi)(C) | Only stack gas flow rate and moisture content.
C | 98.36(e)(2)(viii)(A) | All.
C | 98.36(e)(2)(viii)(B) | All.
C | 98.36(e)(2)(viii)(C) | All.
C | 98.36(e)(2)(ix)(D) | All.
C | 98.36(e)(2)(ix)(E) | All.
C | 98.36(e)(2)(ix)(F) | All.
C | 98.36(e)(2)(x)(A) | All.
C | 98.36(e)(2)(xi) | All.
E | 98.56(b) | All.
E | 98.56(c) | All.
E | 98.56(g) | All.
E | 98.56(h) | All.
E | 98.56(j)(1) | All.
E | 98.56(j)(3) | All.
E | 98.56(j)(4) | All.
E | 98.56(j)(5) | All.
E | 98.56(j)(6) | All.
E | 98.56(l) | All.
F | 98.66(a) | All.
F | 98.66(c)(2) | All.
F | 98.66(c)(3) | Only smelter-specific slope coefficients and overvoltage emission factors.
F | 98.66(e)(1) | Only annual anode consumption (No CEMS).
F | 98.66(f)(1) | Only annual paste consumption (No CEMS).
F | 98.66(g) | All.
G | 98.76(b)(2) | All.
G | 98.76(b)(7) | All.
G | 98.76(b)(8) | All.
G | 98.76(b)(9) | All.
G | 98.76(b)(10) | All.
G | 98.76(b)(11) | All.
H | 98.86(b)(2) | All.
H | 98.86(b)(5) | All.
H | 98.86(b)(6) | All.
H | 98.86(b)(8) | All.
H | 98.86(b)(10) | All.
H | 98.86(b)(11) | All.
H | 98.86(b)(12) | All.
H | 98.86(b)(13) | All.
H | 98.86(b)(15) | Only monthly kiln-specific clinker factors (if used) for each kiln.
I | 98.96(f)(1) | All.
I | 98.96(g) | Only annual consumption of the gas.
I | 98.96(h) | All.
I | 98.96(i) | All.
I | 98.96(j) | All.
I | 98.96(k) | All.
I | 98.96(l) | All.
I | 98.96(n) | All.
I | 98.96(o) | Only inputs and calculations used to determine the inputs for Equation I-14.
I | 98.96(q)(1) | Only inputs and results of calculations made accounting for the uptime of abatement systems used during the reporting year.
I | 98.96(q)(3) | All.
I | 98.96(q)(5)(iv) | Only inputs used to calculate the class average.
I | 98.96(r) | All.
I | 98.96(s) | Only estimates of inputs into the heat transfer fluid mass balance equation.
K | 98.116(b) | Only annual production by product from each EAF (No CEMS).
K | 98.116(e)(4) | All.
K | 98.116(e)(5) | All.
L | 98.126(b)(1) | Only data used in calculating the absolute errors and data used in calculating the relative errors.
L | 98.126(b)(2) | All.
L | 98.126(b)(8)(i) | Only mass of each fluorine-containing product that is removed from the process and fed into the destruction device.
L | 98.126(b)(8)(ii) | Only mass of each fluorine-containing by-product that is removed from the process and fed into the destruction device.
L | 98.126(b)(8)(iii) | Only mass of each fluorine-containing reactant that is removed from the process and fed into the destruction device.
L | 98.126(b)(8)(iv) | Only mass of each fluorine-containing by-product that is removed from the process and recaptured.
L | 98.126(b)(8)(v) | All.
L | 98.126(b)(9)(i) | All.
L | 98.126(b)(9)(ii) | All.
L | 98.126(b)(9)(iii) | All.
L | 98.126(b)(10) | All.
L | 98.126(b)(11) | All.
L | 98.126(b)(12) | All.
L | 98.126(c)(1) | Only quantity of the process activity used to estimate emissions.
L | 98.126(c)(2) | All.
L | 98.126(f)(1) | All.
L | 98.126(g)(1) | All.
L | 98.126(h)(2) | All.
N | 98.146(b)(2) | Only annual quantity of carbonate based-raw material charged to each continuous glass melting furnace.
N | 98.146(b)(4) | All.
N | 98.146(b)(6) | All.
O | 98.156(a)(2) | All.
O | 98.156(a)(7) | All.
O | 98.156(a)(8) | All.
O | 98.156(a)(9) | All.
O | 98.156(a)(10) | All.
O | 98.156(b)(1) | All.
O | 98.156(b)(2) | All.
O | 98.156(d)(1) | All.
O | 98.156(d)(2) | All.
O | 98.156(d)(3) | All.
O | 98.156(d)(4) | All.
O | 98.156(d)(5) | All.
O | 98.156(e)(1) | All.
P | 98.166(b)(2) | All.
P | 98.166(b)(5) | All.
P | 98.166(b)(6) | All.
Q | 98.176(b) | Only annual quantity taconite pellets, coke, iron, and raw steel (No CEMS).
Q | 98.176(e)(1) | All.
Q | 98.176(e)(3) | All.
Q | 98.176(e)(4) | All.
Q | 98.176(f)(1) | All.
Q | 98.176(f)(2) | All.
Q | 98.176(f)(3) | All.
Q | 98.176(f)(4) | All.
Q | 98.176(g) | All.
R | 98.186(b)(6) | All.
R | 98.186(b)(7) | All.
S | 98.196(b)(2) | All.
S | 98.196(b)(3) | All.
S | 98.196(b)(5) | All.
S | 98.196(b)(6) | All.
S | 98.196(b)(8) | All.
S | 98.196(b)(10) | All.
S | 98.196(b)(11) | All.
S | 98.196(b)(12) | All.
U | 98.216(b) | All.
U | 98.216(e)(1) | All.
U | 98.216(e)(2) | All.
V | 98.226(c) | All.
V | 98.226(d) | All.
V | 98.226(i) | All.
V | 98.226(j) | All.
V | 98.226(m)(1) | All.
V | 98.226(m)(3) | All.
V | 98.226(m)(4) | All.
V | 98.226(m)(5) | All.
V | 98.226(m)(6) | All.
V | 98.226(p) | All.
W | 98.236(c)(1)(i) | All.
W | 98.236(c)(1)(ii) | All.
W | 98.236(c)(1)(iii) | All.
W | 98.236(c)(2)(i) | All.
W | 98.236(c)(3)(i) | All.
W | 98.236(c)(3)(ii) | All.
W | 98.236(c)(3)(iii) | All.
W | 98.236(c)(4)(i)(A) | All.
W | 98.236(c)(4)(i)(B) | All.
W | 98.236(c)(4)(i)(C) | All.
W | 98.236(c)(4)(i)(D) | All.
W | 98.236(c)(4)(i)(E) | All.
W | 98.236(c)(4)(i)(F) | All.
W | 98.236(c)(4)(i)(G) | All.
W | 98.236(c)(4)(i)(H) | All.
W | 98.236(c)(4)(ii)(A) | All.
W | 98.236(c)(5)(iii) | All.
W | 98.236(c)(5)(iv) | All.
W | 98.236(c)(5)(v) | All.
W | 98.236(c)(6)(i)(B) | All.
W | 98.236(c)(6)(i)(D) | All.
W | 98.236(c)(6)(i)(E) | All.
W | 98.236(c)(6)(i)(F) | All.
W | 98.236(c)(6)(ii)(B) | All.
W | 98.236(c)(6)(ii)(C) | All.
W | 98.236(c)(7)(i) | All.
W | 98.236(c)(8)(i) | All.
W | 98.236(c)(8)(ii)(A) | All.
W | 98.236(c)(8)(ii)(B) | All.
W | 98.236(c)(8)(ii)(C) | All.
W | 98.236(c)(8)(ii)(D) | All.
W | 98.236(c)(8)(ii)(E) | All.
W | 98.236(c)(8)(ii)(F) | All.
W | 98.236(c)(8)(iii)(A) | All.
W | 98.236(c)(8)(iii)(B) | All.
W | 98.236(c)(8)(iii)(C) | All.
W | 98.236(c)(8)(iii)(D) | All.
W | 98.236(c)(8)(iii)(E) | All.
W | 98.236(c)(10)(ii) | All.
W | 98.236(c)(10)(iii) | All.
W | 98.236(c)(11)(ii) | All.
W | 98.236(c)(12)(ii) | All.
W | 98.236(c)(12)(iii) | All.
W | 98.236(c)(12)(v) | All.
W | 98.236(c)(13)(i)(B) | All.
W | 98.236(c)(13)(i)(E) | All.
W | 98.236(c)(13)(i)(F) | All.
W | 98.236(c)(13)(ii)(A) | All.
W | 98.236(c)(13)(ii)(B) | All.
W | 98.236(c)(13)(iii)(A) | All.
W | 98.236(c)(13)(iii)(B) | All.
W | 98.236(c)(13)(v)(A) | All.
W | 98.236(c)(14)(i)(B) | All.
W | 98.236(c)(14)(ii)(A) | All.
W | 98.236(c)(14)(ii)(B) | All.
W | 98.236(c)(14)(iii)(A) | All.
W | 98.236(c)(14)(iii)(B) | All.
W | 98.236(c)(14)(iv)(A) | All.
W | 98.236(c)(14)(iv)(B) | All.
W | 98.236(c)(15)(i)(A) | All.
W | 98.236(c)(15)(i)(B) | All.
W | 98.236(c)(15)(ii) | All.
W | 98.236(c)(16)(i) | All.
W | 98.236(c)(16)(ii) | All.
W | 98.236(c)(16)(iii) | All.
W | 98.236(c)(16)(iv) | All.
W | 98.236(c)(16)(v) | All.
W | 98.236(c)(16)(vi) | All.
W | 98.236(c)(16)(vii) | All.
W | 98.236(c)(16)(viii) | All.
W | 98.236(c)(16)(ix) | All.
W | 98.236(c)(16)(x) | All.
W | 98.236(c)(16)(xi) | All.
W | 98.236(c)(16)(xii) | All.
W | 98.236(c)(16)(xiii) | All.
W | 98.236(c)(16)(xiv) | All.
W | 98.236(c)(17)(ii) | All.
W | 98.236(c)(17)(iii) | All.
W | 98.236(c)(17)(iv) | All.
W | 98.236(c)(17)(v) | All.
W | 98.236(c)(18)(i) | All.
W | 98.236(c)(18)(ii) | All.
W | 98.236(c)(19)(iv) | All.
W | 98.236(c)(19)(vii) | All.
W | 98.236(d) | All.
X | 98.246(a)(4) | Only monthly volume values, monthly mass values, monthly carbon content values, molecular weights for gaseous feedstocks, molecular weights for gaseous products, and indication of whether the alternative method in § 98.243(c)(4) was used.
X | 98.246(b)(5)(iii) | All.
X | 98.246(b)(5)(iv) | All.
Y | 98.256(e)(6) | Only molar volume conversion factor for each flare.
Y | 98.256(e)(7) | Only molar volume conversion factor for each flare.
Y | 98.256(e)(7)(ii) | All.
Y | 98.256(e)(9) | Only annual volume of flare gas combusted, annual average higher heating value of the flare gas, volume of gas flared, average molecular weight, carbon content of the flare, and molar volume conversion factor if using Eq. Y-3.
Y | 98.256(e)(10) | Only fraction of carbon in the flare gas contributed by methane.
Y | 98.256(f)(7) | Only molar volume conversion factor.
Y | 98.256(f)(10) | Only coke burn-off factor, annual throughput of unit, and average carbon content of coke.
Y | 98.256(f)(11) | Only units of measure for the unit-specific CH4 emission factor, activity data for calculating emissions, and unit-specific emission factor for CH4.
Y | 98.256(f)(12) | Only unit-specific emission factor for N2O, units of measure for the unit-specific N2O emission factor, and activity data for calculating emissions.
Y | 98.256(f)(13) | Only average coke burn-off quantity per cycle or measurement period, and average carbon content of coke.
Y | 98.256(h)(4) | All.
Y | 98.256(h)(5) | Only value of the correction, annual volume of recycled tail gas, and annual average mole fraction of carbon in the tail gas (if used to calculate recycling correction factor).
Y | 98.256(i)(5) | Only annual mass of green coke fed, carbon content of green coke fed, annual mass of marketable coke produced, carbon content of marketable coke produced, and annual mass of coke dust removed from the process.
Y | 98.256(i)(7) | Only the unit-specific CH4 emission factor, units of measure for unit-specific CH4 emission factor, and activity data for calculating emissions.
Y | 98.256(i)(8) | Only units of measure for the unit-specific factor, activity data used for calculating emissions, and site-specific emissions factor.
Y | 98.256(j)(2) | All.
Y | 98.256(j)(5) | Only CO2 emission factor.
Y | 98.256(j)(6) | Only CH4 emission factor.
Y | 98.256(j)(7) | Only carbon emission factor.
Y | 98.256(j)(8) | Only CO2 emission factor and carbon emission factor.
Y | 98.256(j)(9) | Only CH4 emission factor.
Y | 98.256(k)(3) | Only dimensions of coke drum or vessel, typical gauge pressure of the coking drum, typical void fraction of coke drum or vessel, annual number of coke-cutting cycles of coke drum or vessel, and molar volume conversion factor for each coke drum or vessel.
Y | 98.256(k)(4) | Only height and diameter of the coke drums, cumulative number of vessel openings for all delayed coking drums, typical venting pressure, void fraction, mole fraction of methane in coking gas.
Y | 98.256(l)(5) | Only molar volume conversion factor.
Y | 98.256(m)(3) | Only total quantity of crude oil plus the quantity of intermediate products received from off-site, CH4 emission factor used, and molar volume conversion factor.
Y | 98.256(n)(3) | All (if used in Equation Y-21 to calculate emissions from equipment leaks).
Y | 98.256(o)(2)(ii) | All.
Y | 98.256(o)(4)(ii) | All.
Y | 98.256(o)(4)(iii) | All.
Y | 98.256(o)(4)(iv) | All.
Y | 98.256(o)(4)(v) | All.
Y | 98.256(o)(4)(vi) | Only tank-specific methane composition data and gas generation rate data.
Y | 98.256(p)(2) | Only quantity of materials loaded that have an equilibrium vapor-phase concentration of CH4 of 0.5 volume percent or greater.
Z | 98.266(f)(5) | All.
Z | 98.266(f)(6) | All.
AA | 98.276(b) | All.
AA | 98.276(c) | Only annual mass of the spent liquor solids combusted.
AA | 98.276(d) | All.
AA | 98.276(e) | All.
AA | 98.276(f) | All.
AA | 98.276(g) | All.
AA | 98.276(h) | All.
AA | 98.276(i) | All.
BB | 98.286(b)(1) | All.
BB | 98.286(b)(4) | All.
BB | 98.286(b)(6) | All.
CC | 98.296(b)(5) | Only monthly consumption of trona or liquid alkaline feedstock (for facilities using Equation CC-1).
CC | 98.296(b)(6) | Only monthly production of soda ash for each manufacturing line (for facilities using Equation CC-2).
CC | 98.296(b)(7) | All.
CC | 98.296(b)(10)(i) | All.
CC | 98.296(b)(10)(ii) | All.
CC | 98.296(b)(10)(iii) | All.
CC | 98.296(b)(10)(iv) | All.
CC | 98.296(b)(10)(v) | All.
CC | 98.296(b)(10)(vi) | All.
CC | 98.296(b)(10)(vii) | All.
DD | 98.306(a)(2) | All.
DD | 98.306(a)(3) | All.
DD | 98.306(d) | All.
DD | 98.306(e) | All.
DD | 98.306(f) | All.
DD | 98.306(g) | All.
DD | 98.306(h) | All.
DD | 98.306(i) | All.
DD | 98.306(j) | All.
DD | 98.306(k) | All.
DD | 98.306(l) | All.
EE | 98.316(b)(6) | All.
EE | 98.316(b)(9) | All.
FF | 98.326(a) | All.
FF | 98.326(b) | All.
FF | 98.326(c) | All.
FF | 98.326(f) | Only quarterly volumetric flow rate.
FF | 98.326(g) | Only quarterly CH4 concentration.
FF | 98.326(h) | Only weekly volumetric flow used to calculate CH4 liberated from degasification systems.
FF | 98.326(j) | All.
FF | 98.326(k) | All.
FF | 98.326(l) | All.
FF | 98.326(o) | All.
FF | 98.326(p) | Only assumed destruction efficiency for the primary destruction device and assumed destruction efficiency for the backup destruction device.
GG | 98.336(b)(6) | All.
GG | 98.336(b)(7) | All.
GG | 98.336(b)(10) | All.
HH | 98.346(a) | Only year in which landfill first accepted waste, last year the landfill accepted waste, capacity of the landfill, and waste disposal quantity for each year of landfilling.
HH | 98.346(b) | Only quantity of waste determined using the methods in § 98.343(a)(3)(i), quantity of waste determined using the methods in § 98.343(a)(3)(ii), population served by the landfill for each year, and the value of landfill capacity (LFC) used in the calculation.
HH | 98.346(c) | All.
HH | 98.346(d)(1) | Only degradable organic carbon (DOC) value, methane correction factor (MCF) values, and fraction of DOC dissimilated (DOCF) values.
HH | 98.346(d)(2) | All.
HH | 98.346(e) | Only fraction of CH4 in landfill gas.
HH | 98.346(f) | Only surface area associated with each cover type.
HH | 98.346(g) | All.
HH | 98.346(i)(5) | Only annual operating hours for the primary destruction device, annual operating hours for the backup destruction device, destruction efficiency for the primary destruction device, and destruction efficiency for the backup destruction device.
HH | 98.346(i)(6) | All.
HH | 98.346(i)(7) | Only surface area specified in Table HH-3, estimated gas collection system efficiency, and annual operating hours of the gas collection system.
HH | 98.346(i)(9) | Only CH4 generation value.
II | 98.356(b)(1) | All.
II | 98.356(b)(2) | All.
II | 98.356(b)(3) | All.
II | 98.356(b)(4) | All.
II | 98.356(b)(5) | All.
II | 98.356(d)(1) | All.
II | 98.356(d)(2) | All (if conducting weekly sampling).
II | 98.356(d)(3) | All (if conducting weekly sampling).
II | 98.356(d)(4) | Only weekly average temperature (if conducting weekly sampling).
II | 98.356(d)(5) | Only weekly average moisture content (if conducting weekly sampling).
II | 98.356(d)(6) | Only weekly average pressure (if conducting weekly sampling).
II | 98.356(d)(7) | All.
II | 98.356(d)(8) | Only annual operating hours for the primary destruction device, annual operating hours for the backup destruction device, destruction efficiency of the primary destruction device, and destruction efficiency of the backup destruction device.
SS | 98.456(a) | All.
SS | 98.456(b) | All.
SS | 98.456(c) | All.
SS | 98.456(d) | All.
SS | 98.456(e) | All.
SS | 98.456(f) | All.
SS | 98.456(g) | All.
SS | 98.456(h) | All.
SS | 98.456(i) | All.
SS | 98.456(j) | All.
SS | 98.456(m) | All.
SS | 98.456(n) | All.
SS | 98.456(o) | All.
SS | 98.456(q) | All.
SS | 98.456(r) | All.
SS | 98.456(s) | All.
SS | 98.456(t) | Only for any missing data the substitute parameters used to estimate emissions in their absence.
TT | 98.466(a)(2) | All.
TT | 98.466(c)(1) | All.
TT | 98.466(c)(3)(i) | All.
TT | 98.466(c)(3)(ii) | Only waste disposal quantity and production quantity.
TT | 98.466(c)(3)(iii) | All.
TT | 98.466(c)(4)(i) | All.
TT | 98.466(c)(4)(ii) | All.
TT | 98.466(c)(4)(iii) | All.
TT | 98.466(d)(1) | All.
TT | 98.466(d)(2) | Only degradable organic carbon (DOCX) value used in calculations.
TT | 98.466(d)(3) | Only fraction of CH4 in landfill gas.
TT | 98.466(f) | All.

[FR Doc. 2010-32447 Filed 12-23-10; 8:45 am]

BILLING CODE 6560-50-P